NATIONAL CREDIT UNION ADMINISTRATION

Notice of Meeting

Time and Date: 10 a.m., Thursday, July 20, 2006.

Place: Board Room, 7th Floor, Room 7047, 1775 Duke Street, Alexandria, VA 22314-3428.

Status: Open.

Matters To Be Considered: 1. Request from American Eagle Federal Credit Union to Convert to a Community Charter.

2. Request from Aerospace Credit Union to Convert to a Federal Community Charter.

3. Quarterly Insurance Fund Report.

4. Reprogramming of NCUA's Operating Budget for 2006.

5. Proposed Rule: Part 703 of NCUA's Rules and Regulations, Permissible Investments for Federal Credit Unions.

Final Rule: Section 701.21(c)(7) of NCUA's Rules and Regulations, Interest Rate Ceiling.

7. Interest Rate Ceiling Determination by NCUA's Board under 12 U.S.C. 1757(5).

Recess: 11:15 a.m.

Time and Date: 11:30 a.m., Thursday, July 20, 2006.

Place: Board Room, 7th Floor, Room 7047, 1775 Duke Street, Alexandria, VA 22314-3428.

Status: Closed.

Matters To Be Considered: 1. Merger under Part 708a of NCUA's Rules and Regulations. Closed pursuant to Exemption (8).

2. Part 703 of NCUA's Rules and Regulations, Pilot Program Request. Closed pursuant to Exemption (8).

3. Administrative Action under Section 206(g) of the Federal Credit Union Act. Closed pursuant to Exemptions (6) and (8).

Mary Rupp,
Secretary of the Board.

[FR Doc. 06-6301 Filed 7-13-06; 3:04 pm]

BILLING CODE 7535-01-M